POSTAL SERVICE

Postal Service Board of Governors; Sunshine Act Meeting

Date and Times: Tuesday, June 14, 2005; 9 a.m. and 3 p.m.

Place: Washington, DC, at U.S. Postal Service Headquarters, 475 L'Enfant Plaza, SW., in the Benjamin Franklin Room.

Status: June 14-9 a.m. (closed); 3 p.m. (open).

Matters to be considered:

Tuesday, June 14 at 9 a.m. (Closed)

1. Strategic Planning.

2. Personnel Matters and Compensation Issues.

3. Financial Update.

4.Capital Investments.

a. Flat Recognition Improvement Program Phase 2.

b. Postal Automated Redirection System Phase 2.

c. Modification to Automated Package Processing System.

5. Rate Case Planning.

6. Postal Rate Commission Decision on Negotiated Service Agreement with HSBC North America Holdings, Inc./Household International, Docket No. MC2005-2.

7. Proposed Filing with the Postal Rate Commission for a Negotiated Service Agreement.

Tuesday, June 14 at 3 p.m. (Open)

1. Minutes of the Previous Meeting, May 10-11, 2005.

2. Remarks of the Postmaster General and CEO Jack Potter.

3. Committee Reports.

4. Capital Investments.

a. 1,406 Tractors and 382 Spotters.

b. 3,120 Carrier Route Vehicles.

5. Tentative Agenda for the August 1-2, 2005, meeting in Newport Beach, California.

Contact Person for More Information: William T. Johnstone, Secretary of the Board, U.S. Postal Service, 475 L'Enfant Plaza, SW., Washington, DC 20260-1000. Telephone (202) 268-4800.

William T. Johnstone,
Secretary.

[FR Doc. 05-11471 Filed 6-6-05; 8:45 am]

BILLING CODE 7710-12-M